DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce. Applications may be examined between 8:30 A.M. and 5:00 P.M. in room 2104, U.S. Department of Commerce, 14th and Constitution Avenue, NW, Washington, DC 20230.

Docket Number: 07-025. Applicant: University of Minnesota, Institute of Technology Characterization Facility, 12 Shepherd Labs, 100 Union Street SE, Minneapolis, MN 55455. Instrument: Confocal Raman Microscope. Manufacturer: Witec, Germany. Intended Use: The instrument is intended to be used in a centralized facility for a wide variety of research applications including: identifying phases of materials from the interior of the earth and other planetary bodies produced in high pressure/temperature experiments, identifying active pharmaceutical ingredients and various excipients and adjuvants in the dosage form, distinguishing polymorphs in organic crystalline films, identifying components in polymer blends at the micron level, distinguishing components in complex biofilms, characterizing the surface composition of coated aerosol particles, etc. Precise mapping control through a piezo scan table, as well as high resolution and adaptation to different wavelengths of the laser are essential features. Application accepted by Commissioner of Customs: April 23, 2007.

Docket Number: 07-034. Applicant: Purdue University, 915 W State Street, West Lafayette, IN 47907-2054. Instrument: Electron Microscope, Model Titan KRIOS System. Manufacturer: FEI Company, The Netherlands. Intended Use: The instrument is intended to be used primarily on studies of alphaviruses and flaviviruses. Topics of investigation include: virus-receptor complexes, structure of naked viruses, structure of lipid enveloped viruses, virus-antibody complexes, assembly pathways and imaging techniques. Application accepted by Commissioner of Customs: May 17, 2007.

Docket Number: 07-035. Applicant: Old Dominion University, 231 Kaufman Hall, Norfolk, VA 23529. Instrument: Mass Spectrometer, Model JEM-2100F. Manufacturer: JEOL, Ltd., Japan. Intended Use: The instrument is intended to be used to study the microstructure of materials prepared in the form of thin films. The microstructure features include defect density, precipitates, defect distribution, phase and phase distribution. It will also be used to image biological materials to identify cell and membrane properties and to study nanoparticle properties, their interactions, and their morphology. Application accepted by Commissioner of Customs: June 5, 2007.

Dated: June 11, 2007.
Faye Robinson,
Director Statutory Import Programs Staff, Import Administration.

[FR Doc. E7-11608 Filed 6-14-07; 8:45 am]

BILLING CODE 3510-DS-S